DEPARTMENT OF TRANSPORTATION

Federal Aviation Administration

14 CFR Part 39

[Docket No. FAA-2014-0774; Directorate Identifier 2013-NM-154-AD]

RIN 2120-AA64

Airworthiness Directives; the Boeing Company Airplanes

AGENCY: Federal Aviation Administration (FAA), DOT.

ACTION: Notice of proposed rulemaking (NPRM).

SUMMARY: We propose to supersede Airworthiness Directive (AD) 2006-22-15, which applies to all Boeing Model 747-100, 747-100B, 747-100B SUD, 747-200B, 747-200C, 747-200F, 747-300, 747-400, 747-400D, 747-400F, 747SR, and 747SP series airplanes. AD 2006-22-15 currently requires repetitive inspections for cracking of certain panel webs and stiffeners of the nose wheel well (NWW), and corrective actions if necessary. AD 2006-22-15 also requires replacing certain panels with new panels, which terminates the repetitive inspections. Since we issued AD 2006-22-15, we received reports of fatigue cracking in the panel webs and stiffeners of the NWW prior to the inspection threshold of AD 2006-22-15. This proposed AD would reduce a compliance time and add certain inspections and repair if necessary. We are proposing this AD to prevent fatigue cracking of the NWW side and top panels, which could result in a NWW depressurization event severe enough to reduce the structural integrity of the fuselage.

DATES: We must receive comments on this proposed AD by January 2, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0774; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Bill Ashforth, Aerospace Engineer, Airframe Branch, ANM-120S, FAA, Seattle Aircraft Certification Office (ACO), 1601 Lind Avenue SW., Renton, WA 98057-3356; phone: 425-917-6432; fax: 425-917-6590; email: Bill.Ashforth@faa.gov.

SUPPLEMENTARY INFORMATION:

Comments Invited

We invite you to send any written relevant data, views, or arguments about this proposed AD. Send your comments to an address listed under the ADDRESSES section. Include “Docket No. FAA-2014-0774; Directorate Identifier 2013-NM-154-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 25, 2006, we issued AD 2006-22-15, Amendment 39-14812 (71 FR 64884, November 6, 2006), for all Boeing Model 747-100, 747-100B, 747-100B SUD, 747-200B, 747-200C, 747-200F, 747-300, 747-400, 747-400D, 747-400F, 747SR, and 747SP series airplanes. AD 2006-22-15 requires repetitive inspections for cracking of the top and side panel webs and panel stiffeners of the NWW, and corrective actions if necessary. AD 2006-22-15 also requires replacing the NWW side and top panels with new panels, which terminates the repetitive inspections. We issued AD 2006-22-15 to prevent fatigue cracks in the top and side panel webs and stiffeners of the NWW, which could compromise the structural integrity of the NWW and lead to the rapid decompression of the airplane.

Widespread Fatigue Damage

Structural fatigue damage is progressive. It begins as minute cracks, and those cracks grow under the action of repeated stresses. This can happen because of normal operational conditions and design attributes, or because of isolated situations or incidents such as material defects, poor fabrication quality, or corrosion pits, dings, or scratches. Fatigue damage can occur locally, in small areas or structural design details, or globally. Global fatigue damage is general degradation of large areas of structure with similar structural details and stress levels. Multiple-site damage is global damage that occurs in a large structural element such as a single rivet line of a lap splice joining two large skin panels. Global damage can also occur in multiple elements such as adjacent frames or stringers. Multiple-site-damage and multiple-element-damage cracks are typically too small initially to be reliably detected with normal inspection methods. Without intervention, these cracks will grow, and eventually compromise the structural integrity of the airplane, in a condition known as widespread fatigue damage (WFD). As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that Design Approval Holders (DAHs) establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

Actions Since AD 2006-22-15, Amendment 39-14812 (71 FR 64884, November 6, 2006), Was Issued

Since we issued AD 2006-22-15, Amendment 39-14812 (71 FR 64884, November 6, 2006), we have received multiple reports of cracking in the NWW side panel webs and stiffeners caused by fatigue. An operator reported a crack on the right-hand panel of the NWW at 11,428 total flight cycles, which is below the previous inspection threshold.

The NWW top and side panels have been determined to be structure that is susceptible to develop WFD. WFD analysis showed that post-modification inspections are necessary to address the identified unsafe condition. WFD could result in a NWW depressurization event severe enough to reduce the structural integrity of the fuselage.

Relevant Service Information

We reviewed the following Boeing service bulletins:

• Boeing Alert Service Bulletin 747-53A2808, dated November 30, 2012;

• Boeing Service Bulletin 747-53A2465, Revision 5, dated July 11, 2013; and

• Boeing Service Bulletin 747-53A2562, Revision 3, dated July 11, 2013.

For information on the procedures and compliance times, see this service information at http://www.regulations.gov by searching for Docket No. FAA-2014-0774.

FAA's Determination

We are proposing this AD because we evaluated all the relevant information and determined the unsafe condition described previously is likely to exist or develop in other products of the same type design.

Proposed AD Requirements

Although this proposed AD does not explicitly restate certain requirements of AD 2006-22-15, Amendment 39-14812 (71 FR 64884, November 6, 2006), this proposed AD would retain all of the requirements of AD 2006-22-15.

The requirements specified in paragraphs (f), (g), (h), (i), (j), and (l) of AD 2006-22-15, Amendment 39-14812 (71 FR 64884, November 6, 2006), are referenced in Boeing Service Bulletin 747-53A2465, Revision 5, dated July 11, 2013; which, in turn, is referenced in paragraphs (g) and (h)(3) of this proposed AD.

The requirement specified in paragraph (n) of AD 2006-22-15, Amendment 39-14812 (71 FR 64884, November 6, 2006), is referenced in Boeing Service Bulletin 747-53A2562, Revision 3, dated July 11, 2013; which, in turn, is referenced in paragraph (i) of this proposed AD.

For Group 2 airplanes identified in Boeing Service Bulletin 747-53A2562, Revision 1, dated July 28, 2005, and certain airplanes not identified in Boeing Service Bulletin 747-53A2562, Revision 1, dated July 28, 2005, the requirement specified in paragraph (o) of AD 2006-22-15, Amendment 39-14812 (71 FR 64884, November 6, 2006), to accomplish a repair using a method approved by the FAA is now specified in paragraph (i) of this proposed AD. However, for these airplanes, one method of compliance for accomplishing the replacement is Boeing Service Bulletin 747-53A2562, Revision 3, dated July 11, 2013. Therefore, we have referred to Boeing Service Bulletin 747-53A2562, Revision 3, dated July 11, 2013, in paragraph (i) of this proposed AD. Operators may still request an alternative method of compliance (AMOC) using the procedures provided in paragraph (p) of this AD.

For certain other airplanes not identified in Boeing Service Bulletin 747-53A2562, Revision 1, dated July 28, 2005, the requirement specified in paragraph (o) of AD 2006-22-15, Amendment 39-14812 (71 FR 64884, November 6, 2006), to accomplish a repair method approved by the FAA is now specified in paragraph (l) of this proposed AD. However, for these airplanes, one method of compliance for accomplishing the replacement is Boeing Alert Service Bulletin 747-53A2808, dated November 30, 2012. Therefore, we have referred to Boeing Alert Service Bulletin 747-53A2808, dated November 30, 2012, in paragraph (l) of this proposed AD. Operators may still request an AMOC using the procedures provided in paragraph (p) of this AD.

This proposed AD would require accomplishing the actions specified in the service information identified previously, except as discussed under “Differences Between the Proposed AD and the Service Information.”

The phrase “related investigative actions” is used in this proposed AD. “Related investigative actions” are follow-on actions that (1) are related to the primary actions, and (2) further investigate the nature of any condition found. Related investigative actions in an AD could include, for example, inspections.

The phrase “corrective actions” is used in this proposed AD. “Corrective actions” are actions that correct or address any condition found. Corrective actions in an AD could include, for example, repairs.

Differences Between the Proposed AD and the Service Information

For airplanes with fewer than 15,000 total flight cycles, Boeing Service Bulletin 747-53A2465, Revision 5, dated July 11, 2013, recommends, in part, accomplishing a detailed inspection before the accumulation of 13,000 total flight cycles. But, we have determined that the 13,000-total-flight-cycle compliance time is insufficient to address the identified unsafe condition soon enough to ensure an adequate level of safety for the affected fleet, and instead are proposing 10,000 total flight cycles. In developing an appropriate compliance time for this detailed inspection, we considered the degree of urgency associated with the subject unsafe condition, and the fact that we have received a report of a 13-inch crack adjacent to a 2-inch crack in the NWW right-hand side panel on an airplane with 11,428 total flight cycles. This difference has been coordinated with The Boeing Company.

Boeing Service Bulletin 747-53A2465, Revision 5, dated July 11, 2013, specifies to contact the manufacturer for instructions on how to repair certain conditions, but this proposed AD would require repairing those conditions in one of the following ways:

• In accordance with a method that we approve; or

• Using data that meet the certification basis of the airplane, and that have been approved by the Boeing Commercial Airplanes Organization Designation Authorization (ODA) whom we have authorized to make those findings.

Explanation of Compliance Time

The compliance time for the modification specified in paragraphs (i) and (l) of this proposed AD for addressing WFD was established to ensure that discrepant structure is modified before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this proposed AD affects 255 airplanes of U.S. registry.

We estimate the following costs to comply with this proposed AD:

Estimated Costs
Action | Labor cost | Parts cost | Cost per product | Cost on U.S. operators
Inspections [actions retained from AD 2006-22-15, Amendment 39-14812 (71 FR 64884, November 6, 2006)] | 119 work-hours × $85 per hour = $10,115 per inspection cycle | $0 | $10,115 per inspection cycle | $2,579,325 per inspection cycle.
Modification [actions retained from AD 2006-22-15, Amendment 39-14812 (71 FR 64884, November 6, 2006)] | Up to 1,346 work-hours × $85 per hour = $114,410 | Up to $144,248 | Up to $258,658 | Up to $65,957,790.
Post-modification Inspections [new proposed action] | 119 work-hours × $85 per hour = $10,115 per inspection cycle | $0 | $10,115 per inspection cycle | $2,579,325 per inspection cycle.

We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2006-22-15, Amendment 39-14812 (71 FR 64884, November 6, 2006), and adding the following new AD:

The Boeing Company: Docket No. FAA-2014-0774; Directorate Identifier 2013-NM-154-AD.

(a) Comments Due Date

The FAA must receive comments on this AD action by January 2, 2015.

(b) Affected ADs

This AD replaces AD 2006-22-15, Amendment 39-14812 (71 FR 64884, November 6, 2006).

(c) Applicability

This AD applies to all Boeing Model 747-100, 747-100B, 747-100B SUD, 747-200B, 747-200C, 747-200F, 747-300, 747-400, 747-400D, 747-400F, 747SR, and 747SP series airplanes; certificated in any category.

(d) Subject

Air Transport Association (ATA) of America Code 53, Fuselage.

(e) Unsafe Condition

This AD was prompted by multiple reports of cracking in the nose wheel well (NWW) top panel and side panel webs and stiffeners caused by fatigue. We are issuing this AD to prevent fatigue cracking of the NWW side and top panels, which could result in a NWW depressurization event severe enough to reduce the structural integrity of the fuselage.

(f) Compliance

Comply with this AD within the compliance times specified, unless already done.

(g) Repetitive Inspections and Corrective Actions With New Compliance Times

Except as specified in paragraphs (h)(1) and (h)(2) of this AD, at the applicable time specified in paragraph 1.E., “Compliance,” of Boeing Service Bulletin 747-53A2465, Revision 5, dated July 11, 2013, do the actions specified in paragraphs (g)(1), (g)(2), and (g)(3) of this AD, in accordance with the Accomplishment Instructions of Boeing Service Bulletin 747-53A2465, Revision 5, dated July 11, 2013; and do all applicable related investigative and corrective actions; in accordance with the Accomplishment Instructions of Boeing Service Bulletin 747-53A2465, Revision 5, dated July 11, 2013, except as specified in paragraph (h)(3) of this AD. Do all applicable related investigative and corrective actions before further flight. Repeat the inspections specified in paragraphs (g)(1), (g)(2), and (g)(3) of this AD thereafter at the applicable intervals specified in paragraph 1.E., “Compliance,” of Boeing Service Bulletin 747-53A2465, Revision 5, dated July 11, 2013. In table 2 and table 3 in paragraph 1.E., “Compliance,” of Boeing Service Bulletin 747-53A2465, Revision 5, dated July 11, 2013, the date “January 27, 2005,” is the effective date of AD 2004-25-23, Amendment 39-13911 (69 FR 76839, December 23, 2004); and the date “May 10, 2005,” is the effective date of AD 2005-09-02, Amendment 39-14070 (70 FR 21141, April 25, 2005; corrected May 25, 2005 (70 FR 29940)).

(1) Do an external detailed inspection for cracks of the top and sidewall panel webs of the NWW (specified as Area 1 and Area 2 in Boeing Service Bulletin 747-53A2465, Revision 5, dated July 11, 2013).

(2) Do internal detailed and surface high frequency eddy current (HFEC) inspections for cracks of the sidewall panel and top panel stiffeners of the NWW (specified as Area 3 in Boeing Service Bulletin 747-53A2465, Revision 5, dated July 11, 2013).

(3) Do an external detailed and ultrasonic testing (UT) inspection for cracks of the top and sidewall panel webs.

(h) Exceptions to Boeing Service Bulletin 747-53A2465, Revision 5, Dated July 11, 2013

(1) Table 1 in paragraph 1.E., “Compliance,” of Boeing Service Bulletin 747-53A2465, Revision 5, dated July 11, 2013, applies to airplanes with less than 15,000 total flight cycles “as of the Revision 5 date of this service bulletin.” For this AD, however, Table 1 applies to airplanes with the specified total flight cycles as of the effective date of this AD.

(2) Where Table 1 in paragraph 1.E., “Compliance,” of Boeing Service Bulletin 747-53A2465, Revision 5, dated July 11, 2013, specifies a compliance time of “13,000 total flight-cycles,” or “within 1,000 flights cycles after the Revision 5 date of this service bulletin,” whichever occurs later, this AD requires compliance before the accumulation of 10,000 total flight cycles or within 1,000 flight cycles after the effective date of this AD, whichever occurs later.

(3) If any cracking or damage is found during any inspection required by paragraph (g) of this AD, and Boeing Service Bulletin 747-53A2465, Revision 5, dated July 11, 2013, specifies to contact Boeing for appropriate action: Before further flight, repair the cracking or damage using a method approved in accordance with the procedures specified in paragraph (p) of this AD.

(i) NWW Modification

For airplanes identified in Boeing Service Bulletin 747-53A2562, Revision 3, dated July 11, 2013: At the applicable time specified in paragraph 1.E., “Compliance,” of Boeing Service Bulletin 747-53A2562, Revision 3, dated July 11, 2013, replace the left-side, right-side, and top panels of the NWW, as applicable, with new panels, in accordance with the Accomplishment Instructions of Boeing Service Bulletin 747-53A2562, Revision 3, dated July 11, 2013. As of the effective date of this AD, concurrently with doing the replacement specified Boeing Service Bulletin 747-53A2562, Revision 3, dated July 11, 2013, do a detailed inspection for any cracks or damage (including, but not limited to, dents and corrosion) in all attaching structural elements that were common to the removed top panel and side panels, as applicable, and do all applicable corrective actions, in accordance with the Accomplishment Instructions of Boeing Service Bulletin 747-53A2562, Revision 3, dated July 11, 2013. If any crack or damage is found, before further flight, repair the cracking or damage using a method approved in accordance with the procedures specified in paragraph (p) of this AD. In paragraph 1.E., “Compliance,” of Boeing Service Bulletin 747-53A2562, Revision 3, dated July 11, 2013, the date “December 11, 2006,” is the effective date of AD 2006-22-15, Amendment 39-14812 (71 FR 64884, November 6, 2006).

(j) Repetitive Post-Modification Inspections

For airplanes on which the replacement specified in paragraph (i) has been done: Except as required by paragraph (k) of this AD, at the applicable time specified in paragraph 1.E., “Compliance,” of Boeing Service Bulletin 747-53A2562, Revision 3, dated July 11, 2013, do the actions specified in paragraphs (j)(1), (j)(2), and (j)(3) of this AD. If any crack is found: Before further flight, repair the cracking using a method approved in accordance with the procedures specified in paragraph (p) of this AD. Repeat the inspections specified in paragraphs (j)(1), (j)(2), and (j)(3) of this AD thereafter at the applicable intervals specified in paragraph 1.E., “Compliance,” of Boeing Service Bulletin 747-53A2562, Revision 3, dated July 11, 2013.

(1) Do an external detailed inspection for cracks in the side panel webs, in accordance with the Accomplishment Instructions of Boeing Service Bulletin 747-53A2562, Revision 3, dated July 11, 2013.

(2) Do an internal detailed inspection and HFEC inspection for cracks in the top and side panel stiffeners, in accordance with the Accomplishment Instructions of Boeing Service Bulletin 747-53A2562, Revision 3, dated July 11, 2013.

(3) Do an external detailed inspection for cracks in the top panel web, in accordance with the Accomplishment Instructions of Boeing Service Bulletin 747-53A2562, Revision 3, dated July 11, 2013.

(k) Exceptions to Boeing Service Bulletin 747-53A2562, Revision 3, Dated July 11, 2013

Where paragraph 1.E., “Compliance,” of Boeing Service Bulletin 747-53A2562, Revision 3, dated July 11, 2013, specifies a compliance time relative to the “Revision 3 date of this service bulletin,” this AD requires compliance within the specified compliance time after the effective date of this AD.

(l) NWW Modification for Certain Airplanes

For airplanes identified in Boeing Alert Service Bulletin 747-53A2808, dated November 30, 2012: At the applicable time specified in paragraph 1.E., “Compliance,” of Boeing Alert Service Bulletin 747-53A2808, dated November 30, 2012, or within 57 months after December 11, 2006 (the effective date of AD 2006-22-15, Amendment 39-14812 (71 FR 64884, November 6, 2006)), whichever occurs later, replace the left side, right side, and top panels of the NWW, as applicable, with new panels; in accordance with the Accomplishment Instructions of Boeing Alert Service Bulletin 747-53A2808, dated November 30, 2012. Concurrently with doing the replacement specified in this paragraph, do a detailed inspection for cracks of the attaching structural elements that were common to the removed top, left-side, and right-side panels of the NWW, in accordance with the Accomplishment Instructions of Boeing Alert Service Bulletin 747-53A2808, dated November 30, 2012. If any crack is found, before further flight, repair the cracking using a method approved in accordance with the procedures specified in paragraph (p) of this AD.

(m) Repetitive Post-Modification Inspections for Certain Airplanes

For airplanes on which the replacement specified in paragraph (l) has been done: At the applicable time specified in paragraph 1.E., “Compliance,” of Boeing Alert Service Bulletin 747-53A2808, dated November 30, 2012, do the actions specified in paragraphs (l)(1), (l)(2), and (l)(3) of this AD. If any crack is found: Before further flight, repair the cracking using a method approved in accordance with the procedures specified in paragraph (p) of this AD. Repeat the inspections specified in paragraphs (m)(1), (m)(2), and (m)(3) of this AD thereafter at the applicable intervals specified in paragraph 1.E., “Compliance,” of Boeing Alert Service Bulletin 747-53A2808, dated November 30, 2012.

(1) Do an external detailed inspection for cracks in the side panel webs, in accordance with the Accomplishment Instructions of Boeing Alert Service Bulletin 747-53A2808, dated November 30, 2012.

(2) Do an internal detailed inspection and HFEC inspection for cracks in the top and side panel stiffeners, in accordance with the Accomplishment Instructions of Boeing Alert Service Bulletin 747-53A2808, dated November 30, 2012.

(3) Do an external detailed inspection for cracks in the top panel web, in accordance with the Accomplishment Instructions of Boeing Alert Service Bulletin 747-53A2808, dated November 30, 2012.

(n) Terminating Action

Replacing the left side, right side, and top panels of the NWW with new panels as specified in paragraph (i) or (l) of this AD terminates the inspections required by paragraph (g) of this AD.

(o) Credit for Previous Actions

(1) This paragraph restates the credit given in paragraph (k) of AD 2006-22-15, Amendment 39-14812 (71 FR 64884, November 6, 2006).

(i) This paragraph provides credit for the actions required by paragraph (g)(1) of this AD, if those actions were performed before January 27, 2005 (the effective date of AD 2005-09-02, Amendment 39-14070 (70 FR 21141, April 25, 2005); corrected on May 25, 2005 (70 FR 29940)), using Boeing Alert Service Bulletin 747-53A2465, dated April 5, 2001, which is not incorporated by reference in this AD.

(ii) This paragraph provides credit for actions required by paragraphs (g)(1) and (g)(2) of this AD, if those inspections were performed before December 11, 2006 (the effective date of AD 2006-22-15, Amendment 39-14812 (71 FR 64884, November 6, 2006)), using a service bulletin identified in paragraph (o)(1)(ii)(A), (o)(1)(ii)(B), or (o)(1)(ii)(C) of this AD, which are not incorporated by reference in this AD.

(A) Boeing Service Bulletin 747-53A2465, Revision 1, dated October 16, 2003.

(B) Boeing Alert Service Bulletin 747-53A2465, Revision 2, dated November 11, 2004.

(C) Boeing Alert Service Bulletin 747-53A2465, Revision 3, dated December 23, 2004.

(2) This paragraph provides credit for the actions required by paragraph (g) of this AD, if those actions were performed before the effective date of this AD using Boeing Service Bulletin 747-53A2465, Revision 4, dated February 25, 2004, which is not incorporated by reference in this AD.

(3) This paragraph provides credit for the actions required by paragraphs (i) and (j) of this AD, if those actions were performed before the effective date of this AD, using Boeing Service Bulletin 747-53A2562, Revision 1, dated July 28, 2005; or Boeing Service Bulletin 747-53A2562, Revision 2, dated May 31, 2007; which are not incorporated by reference in this AD.

(p) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (p)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved the Boeing Commercial Airplanes Organization Designation Authorization (ODA) that has been authorized by the Manager, Seattle ACO, to make those findings. For a repair method to be approved, the repair must meet the certification basis of the airplane, and the approval must specifically refer to this AD.

(4) AMOCs approved for AD 2006-22-15, Amendment 39-14812 (71 FR 64884, November 6, 2006), are approved as AMOCs for the corresponding provisions of this AD.

(5) AMOCs approved for paragraph (o) of AD 2006-22-15, Amendment 39-14812 (71 FR 64884, November 6, 2006), are approved as AMOCs for the corresponding provisions of paragraph (l) of this AD.

(q) Related Information

(1) For more information about this AD, contact Bill Ashforth, Aerospace Engineer, Airframe Branch, ANM-120S, FAA, Seattle Aircraft Certification Office (ACO), 1601 Lind Avenue SW., Renton, WA 98057-3356; phone: 425-917-6432; fax: 425-917-6590; email: Bill.Ashforth@faa.gov.

(2) For service information identified in this AD, Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on November 6, 2014.
Jeffrey E. Duven,
Manager, Transport Airplane Directorate, Aircraft Certification Service.

[FR Doc. 2014-27066 Filed 11-14-14; 8:45 am]

BILLING CODE 4910-13-P